DEPARTMENT OF ENERGY

Federal Energy Regulatory Commission

[Docket No. RP00-284-000]

Southern Natural Gas Company; Notice of Proposed Changes to FERC Gas Tariff

May 16, 2000.

Take notice that on May 12, 2000, Southern Natural Gas Company (Southern) tendered for filing as part of its FERC Gas Tariff, Seventh Revised Volume No. 1, the following tariff sheets to become effective July 1, 2000:

Third Revised Sheet No. 114

Third Revised Sheet No. 115

Southern states that the purpose of this filing is to revise Section 6.2 of the General Terms and Conditions to its tariff by expanding the rights of delivery point operators to consolidate multiple measurement stations into one delivery point.

Southern states that copies of the filing will be served upon its shippers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-12725 Filed 5-19-00; 8:45 am]

BILLING CODE 6717-01-M